DEPARTMENT OF HEALTH AND HUMAN SERVICES

Office of Public Health and Science; Privacy Act of 1974; New System of Records

AGENCY: Medical Reserve Corps (MRC) Program, Office of Force Readiness and Deployment (OFRD), Office of the Surgeon General (OSG), Office of Public Health and Science (OPHS), Office of the Secretary, Department of Health and Human Services.

ACTION: Notification of new system of records.

SUMMARY: In accordance with the requirements of the Privacy Act, the Office of Public Health and Science (OPHS) is publishing notice of a proposal to add a new system of records, 09-90-0160, “Medical Reserve Corps Unit Information, HHS/OPHS/OSG.”

DATES: OPHS invites interested parties to submit comments on the proposed internal and routine uses on or before August 2, 2006. As of the date of publication of this Notice, OPHS has sent a Report of New System of Records to Congress and to the Office of Management and Budget (OMB). The New System of Records will be effective 40 days from the date submitted to OMB unless OPHS receives comments that would result in a contrary determination.

ADDRESSES: Please address comments to Privacy Act Officer, 200 Independence Ave., SW., Room 645F, Washington, DC 20201. (202) 690-7453.

Comments received will be available for inspection at this same address from 9 a.m. to 3 p.m., Monday through Friday.

FOR FURTHER INFORMATION CONTACT: Director, Medical Reserve Corps Program, Office of the Surgeon General, Department of Health and Human Services, 5600 Fishers Lane, Room 18C-14, Rockville, MD 20857. (301) 443-4951.

SUPPLEMENTARY INFORMATION: The Office of the Surgeon General is developing a new system of records, 09-90-0160, “Medical Reserve Corps Unit Information, HHS/OPHS/OSG,” that will collect and maintain information about MRC units registered with the OSG/MRC program office. Information gathered will include unit demographics, contact information (regular and emergency), volunteer numbers, activity updates and samples of best practices/lessons learned. MRC unit leaders are asked to update this information at least quarterly. In addition, information pertaining to MRC members who are able and willing to be utilized outside their local jurisdiction will be collected (this subset of the MRC will be known as the “PHS Auxiliary”).

Appropriate safeguards are in place to protect the integrity and privacy of the system. Access to records is limited to MRC program staff, and contractors, consultants or grantees who have been engaged by the Department to assist with the MRC program and who need access to the records in order to perform the activity. All computer equipment and files are stored in areas where fire and life safety codes are strictly enforced, and computer networks and web-accessible systems are password protected.

It is anticipated that disclosure may be made to U.S. Government employees, as well as to contractors, consultants or grantees, who have been engaged by the Department to assist with the MRC program. Routine uses of the collected data will allow for the successful coordination of the program, and adequate reporting to applicable agencies/organizations.

This system of records is required to comply with the implementation directives of the Act, Public Law 108-20.

The following notice is written in the present tense, rather than in the future tense, in order to avoid the unnecessary expenditure of public funds to republish the notice after the system becomes effective.

Dated: June 23, 2006.
John O. Agwunobi,
ADM, USPHS, Assistant Secretary for Health.

[FR Doc. E6-10346 Filed 6-30-06; 8:45 am]

BILLING CODE 4150-28-P